DEPARTMENT OF ENERGY

Federal Energy Regulatory Commission

Combined Notice of Filings #1

Take notice that the Commission received the following electric corporate filings:

Docket Numbers: EC20-83-000.

Applicants: GA Solar 3, LLC, Twiggs County Solar, LLC, FL Solar 1, LLC, FL Solar 4, LLC, FL Solar 5, LLC, AZ Solar 1, LLC, Wright Solar Park LLC, Five Points Solar Park LLC, Sunray Energy 2, LLC, Sunray Energy 3 LLC, Three Peaks Power, LLC, Grand View PV Solar Two LLC, Sweetwater Solar, LLC, Techren Solar I LLC, Techren Solar II LLC, Techren Solar III LLC, Techren Solar IV LLC, Techren Solar V LLC, MS Solar 3, LLC, Magnolia Parent LLC.

Description: Application for Authorization Under Section 203 of the Federal Power Act, et al. of the GAFG Applicants.

Filed Date: 7/23/20.

Accession Number: 20200723-5054.

Comments Due: 5 p.m. ET 8/13/20.

Take notice that the Commission received the following electric rate filings:

Docket Numbers: ER10-1633-002.

Applicants: Deseret Generation and Transmission Co-operative, Inc.

Description: Second Supplement to July 26, 2019 Updated Market Power Analysis of Deseret Generation and Transmission Co-operative, Inc.

Filed Date: 7/23/20.

Accession Number: 20200723-5085.

Comments Due: 5 p.m. ET 8/13/20.

Docket Numbers: ER10-3066-004; ER10-2309-006; ER10-3059-004; ER10-3058-004; ER10-3065-004.

Applicants: Edgewood Energy, LLC, Elwood Energy LLC, Equus Power I, L.P., Pinelawn Power, LLC, Shoreham Energy, LLC.

Description: Triennial Market Power Update for the Northeast Region of the J-POWER North America Holdings Co., Ltd. affiliates, et al.

Filed Date: 7/22/20.

Accession Number: 20200722-5172.

Comments Due: 5 p.m. ET 9/21/20.

Docket Numbers: ER20-136-002.

Applicants: Reading Wind Energy, LLC.

Description: Notice of Non-Material Change in Status of Reading Wind Energy, LLC.

Filed Date: 7/10/20.

Accession Number: 20200710-5151.

Comments Due: 5 p.m. ET 7/31/20.

Docket Numbers: ER20-1505-001.

Applicants: Basin Electric Power Cooperative, Inc.

Description: Notice of Change in Status of Basin Electric Power Cooperative.

Filed Date: 7/23/20.

Accession Number: 20200723-5084.

Comments Due: 5 p.m. ET 8/13/20.

Docket Numbers: ER20-2313-000.

Applicants: Boiling Springs Wind Farm, LLC.

Description: Supplement to July 2, 2020 Boiling Springs Wind Farm, LLC tariff filing.

Filed Date: 7/23/20.

Accession Number: 20200723-5062.

Comments Due: 5 p.m. ET 8/3/20.

Docket Numbers: ER20-2485-000.

Applicants: Avista Corporation.

Description: § 205(d) Rate Filing: Avista Corp. KEC Rimrock Construction Agreement SA T1165 to be effective 7/23/2020.

Filed Date: 7/22/20.

Accession Number: 20200722-5125.

Comments Due: 5 p.m. ET 8/12/20.

Docket Numbers: ER20-2486-000.

Applicants: Northern States Power Company, a Minnesota corporation.

Description: § 205(d) Rate Filing: 2020-07-22 NSP-SHKP-SISA-679-0.0.0 to be effective 9/20/2020.

Filed Date: 7/22/20.

Accession Number: 20200722-5129.

Comments Due: 5 p.m. ET 8/12/20.

Docket Numbers: ER20-2487-000.

Applicants: Pacific Gas and Electric Company.

Description: § 205(d) Rate Filing: Modifications to PWRPA IA and SAs to Extend Term (WDT SA 56) to be effective 9/23/2020.

Filed Date: 7/22/20.

Accession Number: 20200722-5149.

Comments Due: 5 p.m. ET 8/12/20.

Docket Numbers: ER20-2488-000.

Applicants: Midcontinent Independent System Operator, Inc.

Description: § 205(d) Rate Filing: 2020-07-23_SA 3096 Point Beach Solar-ATC (J505) to be effective 7/9/2020.

Filed Date: 7/23/20.

Accession Number: 20200723-5025.

Comments Due: 5 p.m. ET 8/13/20.

Docket Numbers: ER20-2489-000.

Applicants: ISO New England Inc., NSTAR Electric Company.

Description: § 205(d) Rate Filing: ISO-NE & NSTAR; Service Agreement No. LGIA-ISONE/NSTAR-20-01 (Vineyard Wind) to be effective 7/10/2020.

Filed Date: 7/23/20.

Accession Number: 20200723-5038.

Comments Due: 5 p.m. ET 8/13/20.

Docket Numbers: ER20-2490-000.

Applicants: PJM Interconnection, L.L.C.

Description: Tariff Cancellation: Notice of Cancellation of IISA, SA No. 2860; Queue No. V1-026/V1-027 to be effective 7/6/2020.

Filed Date: 7/23/20.

Accession Number: 20200723-5047.

Comments Due: 5 p.m. ET 8/13/20.

Docket Numbers: ER20-2491-000.

Applicants: Southwest Power Pool, Inc.

Description: § 205(d) Rate Filing: 2891R6 AECC, Entergy Arkansas & MISO Att AO Cancellation to be effective 3/31/2020.

Filed Date: 7/23/20.

Accession Number: 20200723-5048.

Comments Due: 5 p.m. ET 8/13/20.

Docket Numbers: ER20-2492-000.

Applicants: Southern California Edison Company.

Description: § 205(d) Rate Filing: SCE Administrative Correction—Revised Rate Schedule No. 424 Exhibits to be effective 1/1/2017.

Filed Date: 7/23/20.

Accession Number: 20200723-5056.

Comments Due: 5 p.m. ET 8/13/20.

Docket Numbers: ER20-2493-000.

Applicants: OTCF, LLC.

Description: Baseline eTariff Filing: OTCF, LLC MBR Tariff Application to be effective 7/24/2020.

Filed Date: 7/23/20.

Accession Number: 20200723-5072.

Comments Due: 5 p.m. ET 8/13/20.

Docket Numbers: ER20-2494-000.

Applicants: Midcontinent Independent System Operator, Inc., Ameren Illinois Company.

Description: § 205(d) Rate Filing: 2020-07-23_SA 3534 Ameren-SIPC Exclusive As-Available Service Agrmt to be effective 9/22/2020.

Filed Date: 7/23/20.

Accession Number: 20200723-5097.

Comments Due: 5 p.m. ET 8/13/20.

Docket Numbers: ER20-2495-000.

Applicants: PJM Interconnection, L.L.C.

Description: § 205(d) Rate Filing: Original ISA, SA No. 5687; Queue No. AF1-188 to be effective 6/29/2020.

Filed Date: 7/23/20.

Accession Number: 20200723-5095.

Comments Due: 5 p.m. ET 8/13/20.

Take notice that the Commission received the following electric securities filings:

Docket Numbers: ES20-49-000.

Applicants: Duquesne Light Company.

Description: Application Under Section 204 of the Federal Power Act for Authorization to Issue Securities of Duquesne Light Company.

Filed Date: 7/22/20.

Accession Number: 20200722-0007.

Comments Due: 5 p.m. ET 7/27/20.

Take notice that the Commission received the following qualifying facility filings:

Docket Numbers: QF20-1196-000.

Applicants: DBW Power Company, Inc.

Description: Form 556 of DBW Power Company, Inc.

Filed Date: 7/22/20.

Accession Number: 20200722-5180.

Comments Due: Non-Applicable.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2020.
Nathaniel J. Davis, Sr.,
Deputy Secretary.

[FR Doc. 2020-16419 Filed 7-28-20; 8:45 am]

BILLING CODE 6717-01-P